DEPARTMENT OF COMMERCE

Foreign-Trade Zones Board

[B-5-2013]

Foreign-Trade Zone 41—Milwaukee, Wisconsin; Authorization of Production Activity; Subzone 41J; Generac Power Systems, Inc. (Generators, Pressure Washers, Engines and Other Related Components); Whitewater, Edgerton, and Jefferson, Wisconsin

On January 14, 2013, the Port of Milwaukee, grantee of FTZ 41, submitted a notification of proposed production activity to the Foreign-Trade Zones (FTZ) Board on behalf of Generac Power Systems, Inc., within Subzone 41J, at sites in Whitewater, Edgerton, and Jefferson, Wisconsin.

The notification was processed in accordance with the regulations of the FTZ Board (15 CFR part 400), including notice in the Federal Register inviting public comment (78 FR 5773, 01-28-2013). The FTZ Board has determined that no further review of the activity is warranted at this time. The production activity described in the notification is authorized, subject to the FTZ Act and the Board's regulations, including Section 400.14.

Dated: May 14, 2013.
Elizabeth Whiteman,
Acting Executive Secretary.

[FR Doc. 2013-11973 Filed 5-17-13; 8:45 am]

BILLING CODE 3510-DS-P